DEPARTMENT OF HEALTH AND HUMAN SERVICES

Substance Abuse and Mental Health Services Administration

Center for Substance Abuse Treatment; Notice of Meeting

Pursuant to Public Law 92-463, notice is hereby given that the Substance Abuse and Mental Health Services Administration's (SAMHSA) Center for Substance Abuse Treatment (CSAT) National Advisory Council will meet June 27, 2013, 2:30-3:30 p.m. via teleconference.

The meeting will include discussion and evaluation of grant applications reviewed by Initial Review Groups. Therefore, the meeting will be closed to the public as determined by the SAMHSA Administrator, in accordance with Title 5 U.S.C. 552b(c)(9)(b) and 5 U.S.C. App. 2, Section 10(d).

Substantive program information, a summary of the meeting and a roster of Council members may be obtained as soon as possible after the meeting, by accessing the SAMHSA Committee Web site at https://nac.samhsa.gov/CSATcouncil/index.aspx, or by contacting the CSAT National Advisory Council Designated Federal Official, Ms. Cynthia Graham (see contact information below).

Committee Name: SAMHSA's Center for Substance Abuse Treatment National Advisory Council.

Date/Time/Type: June 27, 2013, 2:30-3:30 p.m. CLOSED.

Place: SAMHSA Building, 1 Choke Cherry Road, VTC Room, Rockville, Maryland 20857.

Contact: Cynthia Graham, M.S., Designated Federal Official, SAMHSA CSAT National Advisory Council, 1 Choke Cherry Road, Room 5-1035, Rockville, Maryland 20857, Telephone: (240) 276-1692, Fax: (240) 276-1690, Email: cynthia.graham@samhsa.hhs.gov.

Cathy J. Friedman,
Public Health Analyst, SAMHSA.

This notice is being published less than 15 days prior to the meeting due to the urgent need to meet timing limitations imposed by the review and funding cycle.

[FR Doc. 2013-14881 Filed 6-20-13; 8:45 am]

BILLING CODE 4162-20-P